DEPARTMENT OF ENERGY

Federal Energy Regulatory Commission

[Project No. 2628-066]

Alabama Power Company; Notice of Application Accepted for Filing and Soliciting Motions To Intervene and Protests

Take notice that the following hydroelectric application has been filed with the Commission and is available for public inspection.

a. Type of Application: New Major License.

b. Project No.: 2628-066.

c. Date filed: November 23, 2021.

d. Applicant: Alabama Power Company (Alabama Power).

e. Name of Project: R.L. Harris Hydroelectric Project (Harris Project).

f. Location: The Harris Project is located on the Tallapoosa River near the City of Lineville in Randolph, Clay, and Cleburne Counties, Alabama. The Harris Project also includes land within the James D. Martin-Skyline Wildlife Management Area located approximately 110 miles north of Harris Reservoir in Jackson County, Alabama. The project occupies 4.90 acres of federal land administered by the Bureau of Land Management.

g. Filed Pursuant to: Federal Power Act, 16 U.S.C. 791 (a)-825(r).

h. Applicant Contact: Angie Anderegg, Harris Relicensing Project Manager, Alabama Power Company; 600 North 18th Street, P.O. Box 2641, Birmingham, AL 35203-8180; (205) 257-2251, or email at arsegars@southernco.com.

i. FERC Contact: Sarah Salazar, Telephone (202) 502-6863, and email sarah.salazar@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2628-066.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Harris Project consists of: (1) The 29-mile-long, 9,870-acre Harris Lake at a normal full pool elevation of 793 feet mean sea level (msl); (2) a 151.5-foot-high concrete dam; (3) a 310-foot-long gated spillway with five 40.5-feet-high by 40-feet-wide radial gates for passing flood flows, and one radial trash gate; (4) a variable level powerhouse intake, integral with the dam, which can draw water from lake elevations between 746 feet and 764 feet msl; (5) a 186-foot-long, 150-foot-high concrete powerhouse, integral with the dam, housing two vertical Francis turbines with a maximum hydraulic capacity of 8,000 cubic feet per second (cfs) and a rated total installed capacity of 135 megawatts (MW); (6) two 115-kilovolt transmission lines, which extend 1.5 miles from the dam to the Crooked Creek Transmission sub-station; and (7) appurtenant facilities.

Alabama Power proposes to install, operate, and maintain a Francis-type minimum flow unit to provide a continuous minimum flow of approximately 300 cfs in the Tallapoosa River downstream from Harris Dam. Based on preliminary design, the proposed minimum flow unit would have a generating capacity of about 2.5 MW.

The Harris Project is a peaking facility that generates about 151,878 megawatt-hours of electricity annually. Alabama Power operates the project to target lake surface elevations as guided by the project's operating curve. In addition, the U.S. Army Corps of Engineers' Alabama-Coosa-Tallapoosa River Basin Water Control Manual describes flood management regulations, drought management provisions, and navigation requirements for the Harris Project.

m. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov, or call toll-free, (866) 208-3676 or (202) 502-8659 (TTY).

You may also register online at https://www.ferc.gov/ferc-online/overview to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Federal and state resource agencies, Indian Tribes, and interested non-governmental organizations and individuals affected by this project may obtain copies of the application directly from the applicant. A copy of any protest or motion to intervene must be served upon each representative of the applicant specified in the particular application.

o. Procedural schedule: The application will be processed according to the following schedule. Revisions to the schedule will be made as appropriate.

Review Responses to Additional Information Requests | June 2022.
Issue Notice of Ready for Environmental Analysis | July 2022.

Dated: April 14, 2022.
Debbie-Anne A. Reese,
Deputy Secretary.

[FR Doc. 2022-08462 Filed 4-19-22; 8:45 am]

BILLING CODE 6717-01-P